DEPARTMENT OF COMMERCE

International Trade Administration

University of California; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Room 4211, US Department of Commerce, 14th and Constitution Avenue, NW, Washington, DC

Docket Number: 99-032. Applicant: University of California, Los Alamos, NM 87545. Instrument: Solid State Quantum Computer, Model Multiprobe S. Manufacturer: Omicron Vakuum Physik GmbH, Germany. Intended Use: See notice at 64 FR 72649, December 28, 1999.

Comments: None received. Decision: Approved. No instrument of equivalent scientific value to the foreign instrument, for such purposes as it is intended to be used, is being manufactured in the United States. Reasons: The foreign instrument provides an ultra-high vacuum chamber with compatible scanning probe, scanning tunneling and atomic force microscopes for depositing an array of phosphorus atoms on a silicon surface having the following capabilities: (1) An operating temperature range from 25 to 1500 degrees K, (2) adequate internal and external vibrational damping and isolation and (3) a 10 μm x 10 μm x 1 μm scan range to be used in a solid state quantum computer. A university center for advanced microstructural devices and the National Institute of Standards and Technology advise that (1): These capabilities are pertinent to the applicant's intended purpose and (2) they know of no domestic instrument or apparatus of equivalent scientific value to the foreign instrument for the applicant's intended use.

We know of no other instrument or apparatus of equivalent scientific value to the foreign instrument which is being manufactured in the United States.

Frank W. Creel,
Director, Statutory Import Programs Staff.

[FR Doc. 00-3394 Filed 2-11-00; 8:45 am]

BILLING CODE 3510-DS-P